DEPARTMENT OF ENERGY

Federal Energy Regulatory Commission

Notice of Commision Staff Attendance

The Federal Energy Regulatory Commission hereby gives notice that members of its staff may attend the following meeting related to the transmission planning activities of the Southwest Power Pool, Inc. (SPP).

Special SPP Board of Directors/Members Committee Teleconference

June 15, 2015 (10:00 a.m.-11:00 a.m. CDT)

The call in information for the above-referenced meeting is:

Teleconference: Dial In: 877.932.5833 Passcode: 157403

The above-referenced meeting is open to the public.

Further information may be found at www.spp.org.

The discussions may address matters at issue in the following proceedings:

Docket No. ER13-366, Southwest Power Pool, Inc.

Docket No. ER13-367, Southwest Power Pool, Inc.

Docket No. ER15-509, Southwest Power Pool, Inc.

For more information, contact Jay Sher, Office of Energy Market Regulation, Federal Energy Regulatory Commission at (202) 502-8921 or jay.sher@ferc.gov.

Dated: June 8, 2015.
Kimberly D. Bose,
Secretary.

[FR Doc. 2015-14736 Filed 6-15-15; 8:45 am]

BILLING CODE 6717-01-P